DEPARTMENT OF DEFENSE

Department of the Navy

Notice of Intent To Grant Partially Exclusive License; METOCEAN Data System

AGENCY: Department of the Navy, DoD.

ACTION: Notice.

SUMMARY: The Department of the Navy gives notice of its intent to grant METOCEAN Data System a revocable, nonassignable, partially exclusive license, with exclusive fields of use in portable acoustic scoring, acoustic sounding and simulator control, in the United States to practice the Government-owned invention, U.S. Patent 6,995,707 B2, issued February 7, 2006, entitled “Integrated Maritime Portable Acoustic Scoring and Simulator Control and Improvements.”

DATES: Anyone wishing to object to the grant of this license must file written objections along with supporting evidence, if any, not later than August 27, 2010.

ADDRESSES: Written objections are to be filed with Indian Head Division, Naval Surface Warfare Center, Code OC4, Bldg. D-31, 3824 Strauss Avenue, Indian Head, MD 20640-5152.

FOR FURTHER INFORMATION CONTACT: Dr. J. Scott Deiter, Head, Technology Transfer Office, Naval Surface Warfare Center Indian Head Division, Code CAB, 3824 Strauss Avenue, Indian Head, MD 20640-5152, telephone 301-744-6111.

Dated: July 13, 2010.
D.J. Werner,
Lieutenant Commander, Judge Advocate General's Corps, U.S. Navy, Federal Register Liaison Officer.

[FR Doc. 2010-17612 Filed 7-20-10; 8:45 am]

BILLING CODE 3810-FF-P